DEPARTMENT OF HEALTH AND HUMAN SERVICES

Office of the Secretary

Delegation of Authority

Notice is hereby given that I have delegated to the National Coordinator for Health Information Technology, Office of the National Coordinator for Health Information Technology (ONC), or his or her successor, the authorities that are vested in the Secretary of Health and Human Services under title III, Section 307, “International Cooperation,” of the Public Health Service (PHS) Act, [42 U.S.C. 242 l], as amended, with regard to participating with other countries in cooperative endeavors.

Limitation

This delegation of authority may be re-delegated within ONC. Previous delegations and re-delegations made to officials within the Department of Health and Human Services for authorities under Section 307 of the PHS Act continue in effect. Exercise of this authority shall be in accordance with established policies, procedures, guidelines, and regulations as prescribed by the Secretary. The Secretary retains the authority to submit reports to Congress, promulgate regulations, and to establish advisory committees and councils and appoint their members. I hereby affirm and ratify any actions taken by the National Coordinator, ONC, or other ONC officials, which involve the exercise of this authority prior to the effective date of this delegation.

Effective Date

This delegation of authority is effective immediately.

Authority

Section 6 of the Reorganization Plan No. 1 of 1953 and Section 2 of the Reorganization Plan No. 3 of 1966.

Dated: December 9, 2020.
Eric D. Hargan,
Deputy Secretary.

[FR Doc. 2020-27606 Filed 12-15-20; 8:45 am]

BILLING CODE 4150-45-P